DEPARTMENT OF LABOR

Employment and Training Administration

[TA-W-86,083, et al.]

Amended Certification Regarding Eligibility To Apply for Worker Adjustment Assistance

TA-W-86,083

Magnetation LLC, Plant 1, Keewatin, Minnesota

TA-W-86,083A

Magnetation LLC, Plant 2, Bovey, Minnesota

TA-W-86,083B

Magnetation LLC, Plant 4, Grand Rapids, Minnesota

In accordance with Section 223 of the Trade Act of 1974, as amended (“Act”), 19 U.S.C. 2273, the Department of Labor issued a Certification of Eligibility to Apply for Worker Adjustment Assistance on September 16, 2015, applicable to workers and former workers of Magnetation LLC, Plant 1, Keewatin, Minnesota (Magnetation-Plant 1). Magnetation LLC (subject firm) is engaged in the activities related to the production of iron ore concentrate. The certification applicable to Magnetation-Plant 1 was based on the Department's finding that the petitioning worker group met the requirements of Section 222(b) of the Act.

Following the issuance of the determination, the Department reviewed the certification applicable to workers and former workers of Magnetation-Plant 1.

New information provided by the subject firm revealed that Magnetation LLC, Plant 4, Grand Rapids, Minnesota (Magnetation-Plant 4) is a supplier to the same firm(s) supplied by Magnetation-Plant 1 and Magnetation-Plant 2, and that the workers of Magnetation-Plant 4 are similarly-affected as the workers of Magnetation-Plant 1 and Magnetation-Plant 2.

Based on these findings, the Department is amending this certification to include workers from Magnetation LLC, Plant 4, Grand Rapids, Minnesota.

The amended notice applicable to TA-W-86,083 is hereby issued as follows:

”All workers of Magnetation LLC, Plant 1, Keewatin, Minnesota (TA-W-86,083), Magnetation LLC, Plant 2, Bovey, Minnesota (TA-W-86,083A), and Magnetation LLC, Plant 4, Grand Rapids, Minnesota (TA-W-86,083B), who became totally or partially separated from employment on or after June 9, 2014 through September 16, 2017, are eligible to apply for adjustment assistance under Chapter 2 of Title II of the Trade Act of 1974, as amended.”

Signed in Washington, DC, this 10th day of March, 2016.
Jessica R. Webster,
Certifying Officer, Office of Trade Adjustment Assistance.

[FR Doc. 2016-09552 Filed 4-22-16; 8:45 am]

BILLING CODE 4510-FN-P